DEPARTMENT OF COMMERCE

International Trade Administration

[A-552-801]

Certain Frozen Fish Fillets From the Socialist Republic of Vietnam: Extension of Time Limit for Preliminary Results of the New Shipper Review

AGENCY: Import Administration, International Trade Administration, Department of Commerce.

DATES: Effective Date: September 27, 2011.

FOR FURTHER INFORMATION CONTACT: Emeka Chukwudebe, AD/CVD Operations, Office 9, Import Administration, International Trade Administration, U.S. Department of Commerce, 14th Street and Constitution Avenue, NW., Washington, DC 20230; telephone: (202) 482-0219.

Background

On August 12, 2003, the Department of Commerce (“Department”) published in the Federal Register, the antidumping duty order on certain frozen fish fillets from the Socialist Republic of Vietnam (“Vietnam”).¹ On February 28, 2011, pursuant to section 751(a)(2)(B)(i) of the Tariff Act of 1930, as amended (“Act”), the Department received a properly filed new shipper review request from Thuan An Production Trading & Services Co., Ltd. (“TAFISHCO”). On March 31, 2011, the Department published a notice of initiation for the new shipper review of certain frozen fish fillets from Vietnam covering the period August 1, 2010, through January 31, 2011.² On June 23, 2011, the Department extended the deadline for parties to submit surrogate country selection comments and surrogate value data.³ On August 5, 2011, the Department extended the deadline for parties to file rebuttal surrogate country and surrogate value comments.⁴ Between July 22, 2011, and August 12, 2011, the Department received surrogate country and surrogate value comments from interested parties. On September 12, 2011, the Department issued a second supplemental questionnaire to the respondent, requesting additional information regarding both its U.S. sale and factors of production. The preliminary results for this new shipper review are currently due on September 20, 2011.

¹ See Notice of Antidumping Duty Order: Certain Frozen Fish Fillets from the Socialist Republic of Vietnam, 68 FR 47909 (August 12, 2003).

² See Certain Frozen Fish Fillets From the Socialist Republic of Vietnam: Initiation of Antidumping Duty New Shipper Review, 76 FR 17837 (March 31, 2011).

³ See Memorandum for All Interested Parties, through Matthew Renkey, Acting Program Manager Import Administration, from Emeka Chukwudebe, Case Analyst, Import administration, Re: Antidumping Duty New Shipper Review of Certain Frozen Fish Fillets from the Socialist Republic of Vietnam: Extension of Time Request to Submit Surrogate Values and Surrogate Country Selection Comments, dated June 23, 2011.

⁴ See Memorandum for All Interested Parties, from Emeka Chukwudebe, Case Analyst, Import administration, Re: Antidumping Duty New Shipper Review of Certain Frozen Fish Fillets from the Socialist Republic of Vietnam: Extension of Time to Submit Rebuttal Surrogate Country and Surrogate Value Comments, dated August 5, 2011.

Extension of Time Limits for Preliminary Results

Section 751(a)(2)(B)(iv) of the Act and 19 CFR 351.214(i)(1), requires the Department to issue the preliminary results in a new shipper review of an antidumping duty order 180 days after the date on which the new shipper review was initiated. The Department may however, extend the deadline for completion of the preliminary results of a new shipper review to 300 days if it determines that the case is extraordinarily complicated. See 19 CFR 351.214(i)(2).

The Department determines that this new shipper review involves extraordinarily complicated methodological issues, including the need to analyze the information requested in the recently issued supplemental questionnaire, as well as, information pertaining to the bona fide nature of the new shipper's sale. In addition, parties have submitted voluminous surrogate country comments and surrogate value data, and thus, the Department will require additional time to analyze these data. We are therefore extending the time for the completion of the preliminary results of this review by 45 days to November 4, 2011.

This notice is published in accordance with sections 751(a)(2)(B)(iv) and 777(i) of the Act.

Dated: September 16, 2011.
Edward C. Yang,
Acting Deputy Assistant Secretary for Antidumping and Countervailing Duty Operations.

[FR Doc. 2011-24806 Filed 9-26-11; 8:45 am]

BILLING CODE 3510-DS-P